OFFICE OF THE UNITED STATES TRADE REPRESENTATIVE

15 CFR Part 2013

RIN 0350-AA11

Removal of Rule Designating Developing and Least-Developed Country Designations Under the Countervailing Duty Law

AGENCY: Office of the United States Trade Representative.

ACTION: Final rule.

SUMMARY: Elsewhere in this issue of the Federal Register, the U.S. Trade Representative is publishing a notice updating the designations of World Trade Organization (WTO) Members that are eligible for special de minimis countervailable subsidy and negligible import volume standards under the countervailing duty (CVD) law. This rule removes the regulations of the Office of the United States Trade Representative (USTR), that contain the designations superseded by the notice.

DATES: The final rule will become effective February 10, 2020.

FOR FURTHER INFORMATION CONTACT: Assistant General Counsel David P. Lyons at 202-395-9446 or David.P.Lyons@ustr.eop.gov.

SUPPLEMENTARY INFORMATION:

I. Background

USTR last updated part 2013 in 1998. See 63 FR 29945 (June 2, 1998). In order to provide more timely updates, USTR has determined that giving notice in the Federal Register rather than through a rulemaking is preferable. Accordingly, USTR is removing part 2013 and, elsewhere in this issue of the Federal Register, is publishing a notice updating the designations of WTO Members that are eligible for special de minimis countervailable subsidy and negligible import volume standards under the CVD law. Removal of part 2013 also is consistent with the goals of Executive Order 13771, Reducing Regulation and Controlling Regulatory Cost (January 30, 2017).

II. Regulatory Flexibility Act

USTR has considered the impact of the final rule and determined that it is not likely to have a significant economic impact on a substantial number of small business entities because it is applicable only to USTR's internal operations and legal obligations. See 5 U.S.C. 601 et seq.

III. Paperwork Reduction Act

The final rule does not contain any information collection requirement that requires the approval of the Office of Management and Budget under the Paperwork Reduction Act (44 U.S.C. 3501 et seq.).

List of Subjects in 15 CFR Part 2013

Countervailing duties, Foreign trade, Imports.

PART 2013—[REMOVED]

For the reasons stated in the preamble, and under the authority of 19 U.S.C. 1677(36), the Office of the United States Trade Representative removes part 2013 of chapter XX of title 15 of the Code of Federal Regulations.

Joseph Barloon,
General Counsel, Office of the U.S. Trade Representative.

[FR Doc. 2020-02445 Filed 2-7-20; 8:45 am]

BILLING CODE 3290-F0-P